FEDERAL COMMUNICATIONS COMMISSION

Notice of Public Information Collections Being Reviewed by the Federal Communications Commissions for Extension Under Delegated Authority, Comments Requested

March 2, 2010

SUMMARY: The Federal Communications Commission, as part of its continuing effort to reduce paperwork burden invites the general public and other Federal agencies to take this opportunity to comment on the following information collections, as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

.

DATES: Persons wishing to comment on this information collection should submit comments by May 10, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via e-mail to Nicholas_A._Fraser@omb.eop.gov and to Cathy Williams, Federal Communications Commission (FCC), via e-mail to Cathy.Williams@fcc.gov and to PRA@fcc.gov.

FOR FURTHER INFORMATION CONTACT: For additional information about the information collections send an e-mail to PRA@fcc.gov or contact Cathy Williams on (202) 418-2918.

SUPPLEMENTARY INFORMATION: OMB Control Number: 3060-0594.

Title: Cost of Service Filing for Regulated Cable Services, FCC Form 1220.

Form Number: FCC Form 1220.

Type of Review: Extension of a currently approved collection.

Respondents: Business or other for-profit entities; State, Local, or Tribal Government.

Number of Respondents and Responses: 20 respondents; 10 responses.

Estimated Hours per Response: 4 - 80 hours.

Frequency of Response: On occasion and annual reporting requirements; Third party disclosure requirement.

Total Annual Burden: 1,220 hours

Total Annual Costs: $100,000

Nature of Response: Required to obtain or retain benefits. The statutory authority for this information collection is contained in Sections 154(i) and 623 of the Communications Act of 1934, as amended.

Confidentiality: No need for confidentiality required with this collection of information.

Privacy Impact Assessment: No impact(s).

Needs and Uses: Cable operators file FCC Form 1220 with their Local Franchising Authorities to demonstrate the costs of providing cable service in order to justify rates above levels determined under the Commission's benchmark methodology. The Commission uses Form 1220 to determine whether cable rates for basic service, cable programming service, and associated equipment are reasonable under the Commission's rules.

OMB Control Number: 3060-0601.

Title: Setting Maximum Initiated Permitted Rates for Regulated Cable Services, FCC Form 1200.

Form Number: FCC Form 1200.

Type of Review: Extension of a currently approved collection.

Respondents: Business or other for-profit entities; State, Local, or Tribal Government.

Number of Respondents and Responses: 100 respondents; 50 responses.

Estimated Hours per Response: 2 - 10 hours.

Frequency of Response: One time and annual reporting requirements; Third party disclosure requirement.

Total Annual Burden: 800 hours.

Total Annual Costs: $62,500.

Nature of Response: Required to obtain or retain benefits. The statutory authority for this information collection is contained in Section 4(i) and 623 of the Communications Act of 1934, as amended.

Confidentiality: No need for confidentiality required with this collection of information.

Privacy Impact Assessment: No impact(s).

Needs and Uses: Cable operators and local franchise authorities file FCC Form 1200 to justify the reasonableness of rates in effect on or after May 15, 1994. The FCC uses the data to evaluate cable rates the first time they are reviewed on or after May 15, 1994, so that maximum permitted rates for regulated cable service can be determined.

OMB Control Number: 3060-1069.

Title: Rules and Policies Concerning Attribution of Joint Sales Agreements in Local Television Markets, NPRM, MB Docket No. 04-256, FCC 04-173.

Form Number: Not applicable.

Type of Review: Extension of a currently approved collection.

Respondents: Business or other for-profit entities.

Number of Respondents and Responses: 1,360 respondents; 1,360 responses.

Estimated Hour per Response: 1 hour.

Frequency of Response: On occasion reporting requirement.

Total Annual Burden: 1,360 hours.

Total Annual Cost: None.

Nature of Response: Required to obtain or retain benefits. The statutory authority for this information collection is contained in Section 154 of the Communications Act of 1934, as amended.

Confidentiality: No need for confidentiality required with this collection of information.

Privacy Impact Assessment: No impact(s).

Needs and Uses: On July 13, 2004, the Commission adopted a Notice of Proposed Rule Making (NPRM), Attribution of Joint Sales Agreements in Local Television Markets, in MB Docket No. 04-256, FCC 04-173, which proposed to consider whether to amend its attribution rules to attribute certain joint sales agreements (JSAs) between broadcast TV stations located in the same local market. The Commission has not taken any action on this proposal since 2004.

Federal Communications Commission.
Marlene H. Dortch,
Secretary,
Office of the Secretary,
Office of Managing Director.

[FR Doc. 2010-5146 Filed 3-10-10; 8:45 am]

BILLING CODE 6712-01-S